DEPARTMENT OF THE TREASURY

Internal Revenue Service

26 CFR Parts 1, 31 and 301

[REG-139255-08]

RIN 1545-BI51

Information Reporting for Payments Made in Settlement of Payment Card and Third Party Network Transactions; Hearing

AGENCY: Internal Revenue Service (IRS), Treasury.

ACTION: Rescheduling of notice of public hearing on proposed rulemaking.

SUMMARY: This document reschedules a notice of public hearing on proposed rulemaking and notice of public hearing relating to information reporting requirements, information reporting penalties, and backup withholding requirements for payment card and third party network transactions.

DATES: The public hearing, originally scheduled for Wednesday, February 10, 2010 at 10 a.m. is rescheduled for Monday, March 15, 2010 at 1 p.m.

ADDRESSES: The public hearing is being held in the IRS New Carrollton Federal Building, 5000 Ellin Road, Lanham, Maryland 20706.

FOR FURTHER INFORMATION CONTACT: Regina Johnson of the Publications and Regulations Branch, Legal Processing Division, Associate Chief Counsel (Procedure and Administration) at (202) 622-7180 (not a toll-free number).

SUPPLEMENTARY INFORMATION: A notice of proposed rulemaking and notice of public hearing that appeared in the Federal Register on Tuesday, November 24, 2009 (74 FR 61294), announced that a public hearing on proposed regulations relating to information reporting requirements, information reporting penalties, and backup withholding requirements for payment card and third party network transactions, was to be held on Wednesday, February 10, 2010 at 10 a.m. Due to inclement weather, the date and location of the public hearing has been changed. The public hearing is scheduled for Monday, March 15, 2010 beginning at 1 pm. in the auditorium of the IRS New Carrollton Federal Building, 5000 Ellin Road, Lanham, Maryland 20706. The building has controlled access restrictions, attendants will not be admitted beyond the entrance before 12:30 p.m. The IRS will prepare an agenda showing the scheduling of the speakers testifying, and make copies available free of charge at the hearing.

LaNita Van Dyke,
Chief, Publications and Regulations Branch, Legal Processing Division, Associate Chief Counsel.

[FR Doc. 2010-4121 Filed 2-26-10; 8:45 am]

BILLING CODE 4830-01-P